NUCLEAR REGULATORY COMMISSION

[Docket No. 72-26-ISFSI; ASLBP No. 08-860-01-ISFSI-BD01]

Pacific Gas and Electric Co. (Diablo Canyon Power Plant Independent Spent Fuel Storage Installation); Designation of Presiding Officer

Pursuant to delegation by the Commission, see 37 FR 28,710 (Dec. 29, 1972), and the Commission's regulations, see 10 CFR 2.313(a)(2), 2.318, 2.1300, and 2.1319(a), notice is hereby given that a member of the Atomic Safety and Licensing Board Panel is being designated as Presiding Officer in the following proceeding in compliance with the Commission's directions in its Memorandum and Order dated January 15, 2008 (CLI-08-01): Pacific Gas and Electric Co. (Diablo Canyon Power Plant Independent Spent Fuel Storage Installation).

This proceeding, which will be conducted pursuant to Subpart K of the Commission's pre-2004 Part 2 procedural rules Regulations (CLI-08-01, slip op. at 4), concerns a license application for an independent spent fuel storage installation (“ISFSI”) at the site of the Diablo Canyon nuclear power reactor in California. Pursuant to the Ninth Circuit's order in San Luis Obispo Mothers for Peace v. NRC, 449 F.3d 1016 (9th Cir. 2006), cert. denied, 127 S. Ct. 1124 (2007), the Nuclear Regulatory Commission (“NRC”) has undertaken a NEPA-terrorism review for this licensing proceeding. The NRC Staff prepared a revised environmental assessment (“EA”) addressing the likelihood of a terrorist attack at the Diablo Canyon ISFSI site and the potential consequence of such an attack (CLI-08-01, slip op. at 1). The Commission admitted limited portions of two contentions—Contentions 1(b) and 2—proffered by the San Luis Obispo Mothers for Peace challenging the Staff's EA (id., slip op. at 3, 29). The Commission set a tentative schedule for further consideration of Contention 1(b), for discovery, and for an ultimate Subpart K oral argument-type hearing on Contention 2 (id., slip op. at 30-31). Stating that it remains “committed to a prompt resolution of this proceeding,” the Commission directed the designation of a Presiding Officer to “keep discovery on schedule, if necessary by setting schedules, and by resolving promptly any discovery disputes, including privilege, materiality, and burdensomeness controversies” (id., slip op. at 30, 31).

The Presiding Officer is: Administrative Judge E. Roy Hawkens, Atomic Safety and Licensing Board Panel, U.S. Nuclear Regulatory Commission, Washington, DC 20555-0001.

All correspondence, documents, and other materials that relate to keeping discovery on schedule shall be filed with the Presiding Officer in accordance with 10 CFR 2.302 (2007).

Issued at Rockville, Maryland, this 16th day of January 2008.
E. Roy Hawkens,
Chief Administrative Judge, Atomic Safety and Licensing Board Panel.

[FR Doc. E8-1074 Filed 1-22-08; 8:45 am]

BILLING CODE 7590-01-P